DEPARTMENT OF ENERGY

Federal Energy Regulatory Commission

Combined Notice of Filings

December 27, 2017.

Take notice that the Commission has received the following Natural Gas Pipeline Rate and Refund Report filings:

Filings Instituting Proceedings

Docket Numbers: RP18-272-000.

Applicants: Ryckman Creek Resources, LLC.

Description: § 4(d) Rate Filing: Adjustments to Non-Conforming Agreements to be effective 12/28/2017.

Filed Date: 12/22/17.

Accession Number: 20171222-5061.

Comments Due: 5 p.m. ET 1/3/18.

Docket Numbers: RP18-273-000.

Applicants: Guardian Pipeline, L.L.C.

Description: § 4(d) Rate Filing: Reservation Rate Crediting & Force Majeure to be effective 2/1/2018.

Filed Date: 12/22/17.

Accession Number: 20171222-5068.

Comments Due: 5 p.m. ET 1/3/18.

Docket Numbers: RP18-274-000.

Applicants: Natural Gas Pipeline Company of America.

Description: § 4(d) Rate Filing: Amendment to NRA Shell Energy North America to be effective 1/1/2018.

Filed Date: 12/22/17.

Accession Number: 20171222-5069.

Comments Due: 5 p.m. ET 1/3/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2017.
Nathaniel J. Davis, Sr.,
Deputy Secretary.

[FR Doc. 2017-28347 Filed 1-2-18; 8:45 am]

BILLING CODE P